DEPARTMENT OF HOUSING AND URBAN DEVELOPMENT

[Docket No. FR-4644-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Barbara Jenkins, Air Force Real Estate Agency, Area-MI, Bolling Air Force Base, 112 Luke Avenue, Suite 104, Building 5683, Washington, DC 20332-8020; (202) 767-4184; Army: Mr. Jeff Holste, Military Programs, U.S. Army Corps of Engineers, Installation Support Center, Planning Branch, Attn: CEMP-IP, 441 G Street, NW., Washington, DC 20314-1000; (202) 761-5737; Energy: Mr. Tom Knox, Department of Energy, Office of Contract & Resource Management, MA-53, Washington, DC 20585; (202) 586-8715; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: May 10, 2001.
John D. Garrity,
Director, Office of Special Needs Assistance Programs.

TITLE V, FEDERAL SURPLUS PROPERTY PROGRAM FEDERAL REGISTER REPORT FOR 5/18/01

Suitable/Available Properties

Buildings (by State)

Maryland

Bldg. 117

Naval Surface Warfare Center

Carderock Division

West Bethesda Co: Montgomery MD 20817-5700

Landholding Agency: Navy

Property Number: 77200120102

Status: Unutilized

Comment: 400 sq. ft., needs rehab, most recent use—storage, off-site use only.

Bldg. 124

Naval Surface Warfare Center

Carderock Division

West Bethesda Co: Montgomery MD 20817-5700

Landholding Agency: Navy

Property Number: 77200120103

Status: Unutilized

Comment: 480 sq. ft., needs rehab., most recent use—warehouse, off-site use only.

Bldg. 130

Naval Surface Warfare Center

Carderock Division

West Bethesda Co: Montgomery MD 20817-5700

Landholding Agency: Navy

Property Number: 77200120104

Status: Unutilized

Comment: 2225 sq. ft., needs rehab, presence of asbestos/lead paint, most recent use—storage/recycling, off-site use only.

Bldg. 181

Naval Surface Warfare Center

Carderock Division

West Bethesda Co: Montgomery MD 20817-5700

Landholding Agency: Navy

Property Number: 77200120105

Status: Unutilized

Comment: 491 sq. ft., needs rehab, presence of asbestos/lead paint, most recent use—equip. maint., off-site use only.

Bldg. 196

Naval Surface Warfare Center

Carderock Division

West Bethesda Co: Montgomery MD 20817-5700

Landholding Agency: Navy

Property Number: 77200120106

Status: Unutilized

Comment: 456 sq. ft., needs rehab, most recent use—destructor bldg., off-site use only.

Nevada

Fed Bldg./Post Office

301 East Steward Ave.

Las Vegas Co: NV 89101-

Landholding Agency: GSA

Property Number: 54200120007

Status: Excess

Comment: 36,758 sq. ft., 3 floors + basement, needs repair totaling approx. $7 million, presence of asbestos, listed on the Natl Register of Historic Places.

GSA Number 9-G-NV-517

Unsuitable Properties

Buildings (by State)

Alabama

Bldg. 3491

Redstone Arsenal

Redstone Arsenal Co: Madison AL 35898-5000

Landholding Agency: Army

Property Number: 21200120001

Status: Unutilized

Reasons: Secured Area; Extensive deterioration.

Bldg. 3525

Redstone Arsenal

Redstone Arsenal Co: Madison AL 35898-5000

Landholding Agency: Army

Property Number: 21200120002

Status: Unutilized

Reasons: Secured Area; Extensive deterioration.

Bldg. 3710

Redstone Arsenal

Redstone Arsenal Co: Madison AL 35898-5000

Landholding Agency: Army

Property Number: 21200120003

Status: Unutilized

Reasons: Secured Area; Extensive deterioration.

Bldg. 7368

Redstone Arsenal

Redstone Arsenal Co: Madison AL 35898-5000

Landholding Agency: Army

Property Number: 21200120004

Status: Unutilized

Reasons: Secured Area, Extensive deterioration.

Bldg. 7356

Redstone Arsenal

Redstone Arsenal Co: Madison AL 35898-5000

Landholding Agency: Army

Property Number: 21200120005

Status: Unutilized

Reasons: Secured Area, Extensive deterioration.

Bldg. 7360A

Redstone Arsenal

Redstone Arsenal Co: Madison AL 35898-5000

Landholding Agency: Army

Property Number: 21200120006

Status: Unutilized

Reasons: Secured Area, Extensive deterioration.

Bldg. 7364

Redstone Arsenal

Redstone Arsenal Co: Madison AL 35898-5000

Landholding Agency: Army

Property Number: 21200120007

Status: Unutilized

Reasons: Secured Area, Extensive deterioration.

Bldg. 7366

Redstone Arsenal

Redstone Arsenal Co: Madison AL 35898-5000

Landholding Agency: Army

Property Number: 21200120008

Status: Unutilized

Reasons: Secured Area, Extensive deterioration.

Bldg. 7367

Redstone Arsenal

Redstone Arsenal Co: Madison AL 35898-5000

Landholding Agency: Army

Property Number: 21200120009

Status: Unutilized

Reasons: Secured Area, Extensive deterioration.

Bldg. 7372

Redstone Arsenal

Redstone Arsenal Co: Madison AL 35898-5000

Landholding Agency: Army

Property Number: 21200120010

Status: Unutilized

Reasons: Secured Area, Extensive deterioration.

Bldg. 7384

Redstone Arsenal

Redstone Arsenal Co: Madison AL 35898-5000

Landholding Agency: Army

Property Number: 21200120011

Status: Unutilized

Reasons: Secured Area, Extensive deterioration.

Bldg. 7521

Redstone Arsenal

Redstone Arsenal Co: Madison AL 35898-5000

Landholding Agency: Army

Property Number: 21200120012

Status: Unutilized

Reasons: Secured Area, Extensive deterioration.

Bldg. 7522

Redstone Arsenal

Redstone Arsenal Co: Madison AL 35898-5000

Landholding Agency: Army

Property Number: 21200120013

Status: Unutilized

Reasons: Secured Area, Extensive deterioration.

Bldg. 7601

Redstone Arsenal

Redstone Arsenal Co: Madison AL 35898-5000

Landholding Agency: Army

Property Number: 21200120014

Status: Unutilized

Reasons: Secured Area, Extensive deterioration.

Bldg. 7610

Redstone Arsenal

Redstone Arsenal Co: Madison AL 35898-5000

Landholding Agency: Army

Property Number: 21200120015

Status: Unutilized

Reasons: Secured Area, Extensive deterioration.

Bldg. 7635

Redstone Arsenal

Redstone Arsenal Co: Madison AL 35898-5000

Landholding Agency: Army

Property Number: 21200120016

Status: Unutilized

Reasons: Secured Area, Extensive deterioration.

Bldg. 7639

Redstone Arsenal

Redstone Arsenal Co: Madison AL 35898-5000

Landholding Agency: Army

Property Number: 21200120017

Status: Unutilized

Reasons: Secured Area, Extensive deterioration.

Bldg. 7660

Redstone Arsenal

Redstone Arsenal Co: Madison AL 35898-5000

Landholding Agency: Army

Property Number: 21200120018

Status: Unutilized

Reasons: Secured Area, Extensive deterioration.

Bldg. 7670

Redstone Arsenal

Redstone Arsenal Co: Madison AL 35898-5000

Landholding Agency: Army

Property Number: 21200120019

Status: Unutilized

Reasons: Secured Area, Extensive deterioration.

Bldg. 7688

Redstone Arsenal

Redstone Arsenal Co: Madison AL 35898-5000

Landholding Agency: Army

Property Number: 21200120020

Status: Unutilized

Reasons: Secured Area, Extensive deterioration.

Bldg. 7689

Redstone Arsenal

Redstone Arsenal Co: Madison AL 35898-5000

Landholding Agency: Army

Property Number: 21200120021

Status: Unutilized

Reasons: Secured Area, Extensive deterioration.

Bldg. 7722

Redstone Arsenal

Redstone Arsenal Co: Madison AL 35898-5000

Landholding Agency: Army

Property Number: 21200120022

Status: Unutilized

Reasons: Secured Area, Extensive deterioration.

Bldg. 7724

Redstone Arsenal

Redstone Arsenal Co: Madison AL 35898-5000

Landholding Agency: Army

Property Number: 21200120023

Status: Unutilized

Reasons: Secured Area, Extensive deterioration.

Bldg. 7727

Redstone Arsenal

Redstone Arsenal Co: Madison AL 35898-5000

Landholding Agency: Army

Property Number: 21200120024

Status: Unutilized

Reasons: Secured Area, Extensive deterioration.

Bldg. 8721

Redstone Arsenal

Redstone Arsenal Co: Madison AL 35898-5000

Landholding Agency: Army

Property Number: 21200120025

Status: Unutilized

Reasons: Secured Area, Extensive deterioration.

Bldg. 8987

Redstone Arsenal

Redstone Arsenal Co: Madison AL 35898-5000

Landholding Agency: Army

Property Number: 21200120026

Status: Unutilized

Reasons: Secured Area, Extensive deterioration.

Alaska

Bldg. 10549

Elmendorf AFB

Elmendorf AFB Co: AK 99506-

Landholding Agency: Air Force

Property Number: 18200120001

Status: Unutilized

Reasons: Within 2000 ft. of flammable or explosive material, Secured Area, Extensive deterioration.

Bldg. 11634

Elmendorf AFB

Elmendorf AFB Co: AK 99506-

Landholding Agency: Air Force

Property Number: 18200120002

Status: Unutilized

Reasons: Within 2000 ft. of flammable or explosive material, Secured Area, Extensive deterioration.

Bldg. 14545

Elmendorf AFB

Elmendorf AFB Co: AK 99506-

Landholding Agency: Air Force

Property Number: 18200120003

Status: Unutilized

Reason: Secured Area.

Bldg. 16504

Elmendorf AFB

Elmendorf AFB Co: AK 99506-

Landholding Agency: Air Force

Property Number: 18200120004

Status: Unutilized

Reasons: Within airport runway clear zone, Secured Area.

Arizona

Bldg. S-2003

Yuma Proving Ground

Yuma Co: La Paz AZ 85365-9104

Landholding Agency: Army

Property Number: 21200120027

Status: Excess

Reason: Extensive deterioration.

Bldg. S-2093

Yuma Proving Ground

Yuma Co: La Paz AZ 85365-9104

Landholding Agency: Army

Property Number: 21200120028

Status: Excess

Reason: Extensive deterioration.

Former Courthouse

Scott Ave. & Congress St.

Law Enforcement Site

Tucson Co: AZ

Landholding Agency: GSA

Property Number: 54200120006

Status: Excess

Reason: Extensive deterioration, GSA Number: 9-G-AZ-820.

California

Bldg. 10600

Vandenberg AFB

Santa Barbara Co: CA 93437-

Landholding Agency: Air Force

Property Number 18200120005

Status: Unutilized

Reason: Secured Area.

Bldg. 10605

Vandenberg AFB

Santa Barbara Co: CA 93437-

Landholding Agency: Air Force

Property Number 18200120006

Status: Unutilized

Reason: Secured Area.

Bldg. 16109

Vandenberg AFB

Santa Barbara Co: CA 93437-

Landholding Agency: Air Force

Property Number 18200120007

Status: Unutilized

Reasons: Secured Area, Extensive deterioration.

Bldg. S-1

Sharpe Site

Lathrop Co: San Joaquin CA 95231-

Landholding Agency: Army

Property Number 21200120029

Status: Unutilized

Reason: Secured Area.

Bldg. S-2

Sharpe Site

Lathrop Co: San Joaquin CA 95231-

Landholding Agency: Army

Property Number 21200120030

Status: Unutilized

Reason: Secured Area.

Bldg. P-32

Sharpe Site

Lathrop Co: San Joaquin CA 95231-

Landholding Agency: Army

Property Number 21200120031

Status: Unutilized

Reason: Secured Area.

Bldg. S-42

Sharpe Site

Lathrop Co: San Joaquin CA 95231-

Landholding Agency: Army

Property Number: 21200120032

Status: Unutilized

Reason: Secured Area.

Bldg. S-44

Sharpe Site

Lathrop Co: San Joaquin CA 95231-

Landholding Agency: Army

Property Number: 21200120033

Status: Unutilized

Reason: Secured Area.

Bldg. S-213

Sharpe Site

Lathrop Co: San Joaquin CA 95231-

Landholding Agency: Army

Property Number: 21200120034

Status: Unutilized

Reason: Secured Area.

Bldg. P-217

Sharpe Site

Lathrop Co: San Joaquin CA 95231-

Landholding Agency: Army

Property Number: 21200120035

Status: Unutilized

Reason: Secured Area.

Bldg. S-218

Sharpe Site

Lathrop Co: San Joaquin CA 95231-

Landholding Agency: Army

Property Number: 21200120036

Status: Unutilized

Reason: Secured Area.

Bldg. S-288

Sharpe Site

Lathrop Co: San Joaquin CA 95231-

Landholding Agency: Army

Property Number: 21200120037

Status: Unutilized

Reason: Secured Area.

Bldg. P-403

Sharpe Site

Lathrop Co: San Joaquin CA 95231-

Landholding Agency: Army

Property Number: 21200120038

Status: Unutilized

Reason: Secured Area.

Bldg. P-405

Sharpe Site

Lathrop Co: San Joaquin CA 95231-

Landholding Agency: Army

Property Number: 21200120039

Status: Unutilized

Reason: Secured Area.

Bldg. P-508

Sharpe Site

Lathrop Co: San Joaquin CA 95231-

Landholding Agency: Army

Property Number: 21200120040

Status: Unutilized

Reason: Secured Area.

Bldg. 53320

Marine Corps Base

Camp Pendleton Co: CA 92055-

Landholding Agency: Navy

Property Number: 77200120096

Status: Excess

Reason: Extensive deterioration.

Bldg. 53321

Marine Corps Base

Camp Pendleton Co: CA 92055-

Landholding Agency: Navy

Property Number: 77200120097

Status: Excess

Reason: Extensive deterioration.

Bldg. 53335

Marine Corps Base

Camp Pendleton Co: CA 92055-

Landholding Agency: Navy

Property Number: 77200120098

Status: Excess

Reason: Extensive deterioration.

Bldg. 53336

Marine Corps Base

Camp Pendleton Co: CA 92055-

Landholding Agency: Navy

Property Number: 77200120099

Status: Excess

Reason: Extensive deterioration.

Colorado

Bldg. 8412

Air Force Academy

El Paso Co: CO 80840-2400

Landholding Agency: Air Force

Property Number: 18200120008

Status: Unutilized

Reason: Within airport runway clear zone.

Bldg. 762

Rocky Flats Env. Tech Site

Golden Co: Jefferson CO 80020-

Landholding Agency: Energy

Property Number: 41200120003

Status: Excess

Reasons: Within 2000 ft. of flammable or explosive material, Secured Area.

Bldg. 762A

Rocky Flats Env. Tech Site

Golden Co: Jefferson CO 80020-

Landholding Agency: Energy

Property Number: 41200120004

Status: Excess

Reasons: Within 2000 ft. of flammable or explosive material, Secured Area.

Bldg. 792

Rocky Flats Env. Tech Site

Golden Co: Jefferson CO 80020-

Landholding Agency: Energy

Property Number: 41200120005

Status: Excess

Reasons: Within 2000 ft. of flammable or explosive material, Secured Area.

Bldg. 792A

Rocky Flats Env. Tech Site

Golden Co: Jefferson CO 80020-

Landholding Agency: Energy

Property Number: 41200120006

Status: Excess

Reasons: Within 2000 ft. of flammable or explosive material, Secured Area.

Georgia

Bldg. 00509

Fort Gordon

Fort Gordon Co: Richmond GA 30905-

Landholding Agency: Army

Property Number: 21200120041

Status: Unutilized

Reason: Extensive deterioration.

Bldg. T-704

Hunter Army Airfield

Savannah Co: Chatham GA 31409-

Landholding Agency: Army

Property Number: 21200120042

Status: Excess

Reason: Extensive deterioration.

Hawaii

Bldg. T-643

Schofield Barracks

Wahiawa Co: HI 96786-

Landholding Agency: Army

Property Number: 21200120043

Status: Unutilized

Reason: Extensive deterioration.

Bldg. P-1

Dillingham Military

Reservation

Wahiawa Co: HI 96857-

Landholding Agency: Army

Property Number: 21200120044

Status: Unutilized

Reason: Extensive deterioration.

Bldg. P-13

Dillingham Military

Reservation

Wahiawa Co: HI 96857-

Landholding Agency: Army

Property Number: 21200120045

Status: Unutilized

Reason: Extensive deterioration.

Bldg. P-21

Dillingham Military

Reservation

Wahiawa Co: HI 96857-

Landholding Agency: Army

Property Number: 21200120046

Status: Unutilized

Reason: Extensive deterioration.

Bldg. P-24

Dillingham Military

Reservation

Wahiawa Co: HI 96857-

Landholding Agency: Army

Property Number: 21200120047

Status: Unutilized

Reason: Extensive deterioration.

Bldg. P-27

Dillingham Military

Reservation

Wahiawa Co: HI 96857-

Landholding Agency: Army

Property Number: 21200120048

Status: Unutilized

Reason: Extensive deterioration.

Bldg. P-893

Dillingham Military

Reservation

Wahiawa Co: HI 96857-

Landholding Agency: Army

Property Number: 21200120049

Status: Unutilized

Reason: Extensive deterioration.

24 Units

Peal City Peninsula

Navy Family Housing

Pearl City Co: HI 96782-

Location: #904, 906, 908, 920, 922, 924, 928, 930, 949, 951, 960

Landholding Agency: Navy

Property Number: 77200120100

Status: Unutilized

Reason: Extensive deterioration.

6 Bldgs.

Pearl City Peninsula

Navy Family Housing

Pearl City Co: HI 96792-

Location: #787, 788, 789, 790, 791, 797

Landholding Agency: Navy

Property Number: 77200120101

Status: Unutilized

Reason: Extensive deterioration.

Kentucky

Bldg. T02154

Fort Campbell

Ft. Campbell Co: Christian KY 42223-

Landholding Agency: Army

Property Number: 21200120050

Status: Unutilized

Reason: Extensive deterioration.

Bldg. T02538

Fort Campbell

Ft. Campbell Co: Christian KY 42223-

Landholding Agency: Army

Property Number: 21200120051

Status: Unutilized

Reason: Extensive deterioration.

Bldg. T02708

Fort Campbell

Ft. Campbell Co: Christian KY 42223-

Landholding Agency: Army

Property Number: 21200120052

Status: Unutilized

Reason: Extensive deterioration.

Bldg. T03106

Fort Campbell

Ft. Campbell Co: Christian KY 42223-

Landholding Agency: Army

Property Number: 21200120053

Status: Unutilized

Reason: Extensive deterioration.

Bldg. T05185

Fort Campbell

Ft. Campbell Co: Christian KY 42223-

Landholding Agency: Army

Property Number: 21200120054

Status: Unutilized

Reason: Extensive deterioration.

Bldg. T06108

Fort Campbell

Ft. Campbell Co: Christian KY 42223-

Landholding Agency: Army

Property Number: 21200120055

Status: Unutilized

Reason: Extensive deterioration.

Bldg. T06422

Fort Campbell

Ft. Campbell Co: Christian KY 42223-

Landholding Agency: Army

Property Number: 21200120056

Status: Unutilized

Reason: Extensive deterioration.

Bldg. T07236

Fort Campbell

Ft. Campbell Co.: Christian KY 42223-

Landholding Agency: Army

Property Number: 21200120057

Status: Unutilized

Reason: Extensive deterioration.

Louisiana

Bldg. 5674

Fort Polk

Ft. Polk Co.: Vernon Parish LA 71459-

Landholding Agency: Army

Property Number: 21200120058

Status: Unutilized

Reason: Floodway.

Maryland

Bldg. 00310 (portion)

Aberdeen Proving Ground

Aberdeen Co.: Hartfort MD 21005-5001

Landholding Agency: Army

Property Number: 21200120059

Status: Unutilized

Reason: Extensive deterioration.

Bldg. E3871

Aberdeen Proving Ground

Aberdeen Co.: Hartfort MD 21005-5001

Landholding Agency: Army

Property Number: 21200120060

Status: Unutilized

Reason: Extensive deterioration.

Bldg. 403

Adelphi Laboratory Center

Adelphi Co.: Montgomery MD 20783-

Landholding Agency: Army

Property Number: 21200120061

Status: Unutilized

Reasons: Within 2000 Ft. of flamable or explosive material; Secured Area.

Bldg. 404

Adelphi Laboratory Center

Adelphi Co.: Montgomery MD 20783-

Landholding Agency: Army

Property Number: 21200120062

Status: Unutilized

Reasons: Within 2000 Ft. of flamable or explosive material; Secured Area.

Missouri

Bldg. 5387

Fort Leonard Wood

Ft. Leonard Wood Co.: MD 65473-

Landholding Agency: Army

Property Number: 21200120063

Status: Unutilized

Reason: Extensive deterioration.

New Mexico

Bldg. 105. TA-3

Los Alamos Natl Lab

Los Alamos Co.: NM 87545-

Landholding Agency: Energy

Property Number: 41200120007

Status: Excess

Reason: Secured Area.

Bldg. 452. TA-3

Los Alamos Natl Lab

Los Alamos Co.: NM 87545-

Landholding Agency: Energy

Property Number: 41200120008

Status: Excess

Reason: Secured Area.

North Dakota

Bldg. 548

Grand Forks AFB

Grand Forks AFB Co.: ND 58205-

Landholding Agency: Air Force

Property Number: 18200120009

Status: Excess

Reasons: Within 2000 Ft. of flamable or explosive material; Secured, Extensive deterioration.

Ohio

Bldg. 54A

Fernald Env. Mgmt. Project

Fernald Co.: Hamilton OH 45013-9402

Landholding Agency: Energy

Property Number: 41200120009

Status: Excess

Reason: Secured Area.

Rhode Island

Bldg. 104

Army Aviation

North Kingstown Co.: Washington RI 02852-

Landholding Agency: Army

Property Number: 21200120064

Status: Unutilized

Reason: Extensive deterioration.

Utah

Bldg. 5234

Dugway Proving Ground

Dugway Co: Tooele UT 84022-

Landholding Agency: Army

Property Number: 21200120065

Status: Underutilized

Reasons: Within 2000 ft. of flammable or explosive material, secured area.

Virginia

Bldg. TT0255

Fort A.P. Hill

Bowling Green Co: Caroline VA 22427-

Landholding Agency: Army

Property Number: 21200120066

Status: Unutilized

Reason: Extensive deterioration

Bldg. T-5210

Fort Lee

Fort Lee Co: Prince George VA 23801-

Landholding Agency: Army

Property Number: 21200120067

Status: Unutilized

Reason: Extensive deterioration.

Washington

Bldg. 8288

Fort Lewis

Ft. Lewis Co: Pierce WA 98433-9500

Landholding Agency: Army

Property Number: 21200120068

Status: Exces

Reason: Extensive deterioration.

Bldg. U004A

Yakima Training Center

Yakima Co: Kittitas WA 98908-5000

Landholding Agency: Army

Property Number: 21200120069

Status: Unutilized

Reason: Extensive deterioration.

Bldg. U016B

Yakima Training Center

Yakima Co: Kittitas WA 98908-5000

Landholding Agency: Army

Property Number: 21200120070

Status: Unutilized

Reason: Extensive deterioration.

Bldg. U019B

Yakima Training Center

Yakima Co: Kittitas WA 98908-5000

Landholding Agency: Army

Property Number: 21200120071

Status: Unutilized

Reason: Extensive deterioration.

Bldg. U025A

Yakima Training Center

Yakima Co: Kittitas WA 98908-5000

Landholding Agency: Army

Property Number: 21200120072

Status: Unutilized

Reason: Extensive deterioration.

Bldgs. U055A, U015H, U010G

Yakima Training Center

Yakima Co: Kittitas WA 98908-5000

Landholding Agency: Army

Property Number: 21200120073

Status: Unutilized

Reason: Extensive deterioration.

Bldg. U055C

Yakima Training Center

Yakima Co: Kittitas WA 98908-5000

Landholding Agency: Army

Property Number: 21200120074

Status: Unutilized

Reason: Extensive deterioration.

Bldg. U085A

Yakima Training Center

Yakima Co: Kittitas WA 98908-5000

Landholding Agency: Army

Property Number: 21200120075

Status: Unutilized

Reason: Exetnsive deterioration.

Bldg. U085B

Yakima Training Center

Yakima Co: Kittitas WA 98908-5000

Landholding Agency: Army

Property Number: 21200120076

Status: Unutilized

Reason: Extensive deterioration.

Bldg. 02325

Yakima Training Center

Yakima Co: Kittitas WA 98908-5000

Landholding Agency: Army

Property Number: 21200120084

Status: Unutilized

Reason: Extensive deterioration.

Wisconsin

Bldg. 1655

Fort McCoy

Ft. McCoy Co: Monroe WI 54656-5136

Landholding Agency: Army

Property Number: 21200120077

Status: Unutilized

Reason: Extensive deterioration.

Bldg. 1845

Fort McCoy

Ft. McCoy Co: Monroe WI 54656-5136

Landholding Agency: Army

Property Number: 21200120078

Status: Unutilized

Reason: Extensive deterioration.

Bldg. 1849

Fort McCoy

Ft. McCoy Co: Monroe WI 54656-5136

Landholding Agency: Army

Property Number: 21200120079

Status: Unutilized

Reason: Extensive deterioration.

Bldg. 2163

Fort McCoy

Ft. McCoy Co: Monroe WI 54656-5136

Landholding Agency: Army

Property Number: 21200120080

Status: Unutilized

Reason: Extensive deterioration.

Bldg. 2167

Fort McCoy

Ft. McCoy Co: Monroe WI 54656-5136

Landholding Agency: Army

Property Number: 21200120081

Status: Unutilized

Reason: Extensive deterioration.

Bldg. 2193

Fort McCoy

Ft. McCoy Co: Monroe WI 54656-5136

Landholding Agency: Army

Property Number: 21200120082

Status: Unutilized

Reason: Extensive deterioration.

Bldg. 8030

Fort McCoy

Ft. McCoy Co: Monroe WI 54656-5136

Landholding Agency: Army

Property Number: 21200120083

Status: Unutilized

Reason: Extensive deterioration.

Wyoming

Bldg. 2110

F.E. Warren AFB

Cheyenne Co: Laramie WY 82005-5000

Landholding Agency: Air Force

Property Number: 18200120010

Status: Unutilized

Reason: Secured Area, Extensive deterioration.

Unsuitable Properties

Land (by State)

North Carolina

1.84 acres

Neuse Middle Marker Annex

Seymour Johnson AFB

Wayne Co: NC 27531-

Landholding Agency: Air Force

Property Number: 18200120011

Status: Unutilized

Reason: Floodway inaccessible.

[FR Doc. 01-12239 Filed 5-17-01; 8:45 am]

BILLING CODE 4210-29-M